FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202) 523-5793 or tradeanalysis@fmc.gov.

Agreement No.: 201275.

Agreement Name: NBP/CNCo Pacific-Asia Slot Charter Agreement.

Parties: NYK Bulk & Project Carriers Ltd. and The China Navigation Co. Pte. Ltd.

Filing Party: Conte Cicala; Clyde & Co.

Synopsis: The Agreement authorizes the parties to charter space on each other's vessels between foreign ports and Pago Pago, American Samoa.

Proposed Effective Date: 9/13/2018.

Location: https://www2.fmc.gov/FMC.Agreements.Web/Public/AgreementHistory/16287.

Agreement No.: 201276.

Agreement Name: TransGulf, LLC—Linea Peninsular Inc. Slot Charter Agreement.

Parties: TransGulf LLC and Linea Peninsular Inc.

Filing Party: Matt Thomas; Blank Rome LLP.

Synopsis: The Agreement authorizes TransGulf to charter space to Linea Peninsular on its weekly service operating between Altamira, Mexico and Tampa, Florida.

Proposed Effective Date: 9/17/2018.

Location: https://www2.fmc.gov/FMC.Agreements.Web/Public/AgreementHistory/16295.

Agreement No.: 201273.

Agreement Name: MOL/NMCC/WLS/Glovis Space Charter Agreement.

Parties: Hyundai Glovis Co., Ltd.; Mitsui O.S.K. Lines, Ltd.; Nissan Motor Car Carrier Co., Ltd.; and World Logistics Service (U.S.A.) Inc.

Filing Party: Eric Jeffrey; Nixon Peabody.

Synopsis: The agreement authorizes the parties to charter space to one another on an as needed, as available, basis for the carriage of vehicles and other Ro-Ro cargo in the trades between the United States and all foreign countries.

Proposed Effective Date: 10/27/2018.

Location: https://www2.fmc.gov/FMC.Agreements.Web/Public/AgreementHistory/16284.

Agreement No.: 011075-079.

Agreement Name: Central America Discussion Agreement.

Parties: Great White Fleet Corp and Great White Fleet Liner Service Ltd. (acting as a single party); King Ocean Services Limited; Seaboard Marine, Ltd.; Dole Ocean Cargo Express, LLC; and Crowley Latin America Services LLC.

Filing Party: Wayne Rohde; Cozen O'Connor.

Synopsis: The amendment removes Dole Ocean Cargo Express, Inc. as a party to the Agreement and replaces it with Dole Ocean Cargo Express, LLC.

Proposed Effective Date: 11/1/2018.

Location: https://www2.fmc.gov/FMC.Agreements.Web/Public/AgreementHistory/1332.

Agreement No.: 012179-002.

Agreement Name: Hoegh/Farrell Space Charter and Cooperative Working Agreement.

Parties: Farrell Lines Incorporated and Hoegh Autoliners AS.

Filing Party: Jeff Vogel; Cozen O'Connor.

Synopsis: The amendment adds in Sections 5.2 and 5.5 the ability for Hoegh to charter space to Farrell on its foreign-flag vessels for the carriage of U.S. military cargo and U.S. Government-impelled cargo.

Proposed Effective Date: 11/1/2018.

Location: https://www2.fmc.gov/FMC.Agreements.Web/Public/AgreementHistory/334.

Agreement No.: 011353-038.

Agreement Name: The Credit Agreement.

Parties: Dole Ocean Cargo Express, LLC; King Ocean Services Limited; Crowley Latin American Services, LLC; Seaboard Marine Ltd.; and Seaboard Marine of Florida, Inc.

Filing Party: Wayne Rohde; Cozen O'Connor.

Synopsis: The amendment adds Dole Ocean Cargo Express, LLC as a party to the Agreement, replacing Dole Ocean Cargo Express, Inc.

Proposed Effective Date: 11/1/2018.

Location: https://www2.fmc.gov/FMC.Agreements.Web/Public/AgreementHistory/1728.

Agreement No.: 011790-003.

Agreement Name: Dole Ocean Cargo Express/King Ocean Services Limited Space Charter Agreement.

Parties: Dole Ocean Cargo Express, LLC and King Ocean Services Limited.

Filing Party: Wayne Rohde; Cozen O'Connor.

Synopsis: The amendment removes Dole Ocean Cargo Express, Inc. as a party to the Agreement and replaces it with Dole Ocean Cargo Express, LLC.

Proposed Effective Date: 11/1/2018.

Location: https://www2.fmc.gov/FMC.Agreements.Web/Public/AgreementHistory/639.

Agreement No.: 011842-002.

Agreement Name: Crowley/Dole Space Charter and Sailing Agreement.

Parties: Dole Ocean Cargo Express, LLC and Crowley Latin America Services, LLC.

Filing Party: Wayne Rohde; Cozen O'Connor.

Synopsis: The amendment removes Dole Ocean Cargo Express, Inc. as a party to the Agreement and replaces it with Dole Ocean Cargo Express, LLC.

Proposed Effective Date: 11/2/2018.

Location: https://www2.fmc.gov/FMC.Agreements.Web/Public/AgreementHistory/569.

Agreement No.: 201277.

Agreement Name: CMA CGM/Maersk Line TRIDENT/PAD2 Service Space Charter Agreement.

Parties: CMA CGM S.A. and Maersk Line A/S.

Filing Party: Wayne Rohde; Cozen O'Connor.

Synopsis: The Agreement authorizes Maersk Line to charter space to CMA CGM on its TRIDENT/PAD2 service in the trade between ports on the Atlantic Coast of the United States and ports in Australia, New Zealand, Colombia and Panama. The parties request expedited review.

Proposed Effective Date: 11/3/2018.

Location: https://www2.fmc.gov/FMC.Agreements.Web/Public/AgreementHistory/16297.

Dated: September 20, 2018.
Rachel E. Dickon,
Secretary.

[FR Doc. 2018-20862 Filed 9-25-18; 8:45 am]

BILLING CODE 6731-AA-P